DEPARTMENT OF THE INTERIOR

National Park Service

[NPS-WASO-NRNHL-23548; PPWOCRADI0, PCU00RP14.R50000]

National Register of Historic Places; Notification of Pending Nominations and Related Actions

AGENCY: National Park Service, Interior.

ACTION: Notice.

SUMMARY: The National Park Service is soliciting comments on the significance of properties nominated before June 3, 2017, for listing or related actions in the National Register of Historic Places.

DATES: Comments should be submitted by July 13, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before June 3, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Denver County

First Unitarian Society of Denver, 1400 Lafayette St., Denver, SG100001308

Fremont County

Downtown Florence Historic District, Roughly bounded by Main St., Santa Fe & Petroleum Aves. between W. 2nd & Railroad Sts., Florence, SG100001309

GEORGIA

Ware County

Manor School, 4650 Manor Millwood Rd., Manor, SG100001310

LOUISIANA

East Baton Rouge Parish

Baton Rouge Electric Company (BRECO) Public Utilities Complex, 1509 Government St., Baton Rouge, SG100001311

Natchitoches Parish

Southern Cotton Oil Mill, 110 Mill St., Natchitoches, SG100001312

Orleans Parish

John Hancock Building, 1055 St. Charles Ave., New Orleans, SG100001313

MASSACHUSETTS

Suffolk County

Boston Fish Pier Historic District, 212-234 Northern Ave., Boston, SG100001314

Columbia Road—Devon Street Historic District, 193-231 (odd) & 200-204 (even) Columbia Rd., Boston, SG100001315

NEW HAMPSHIRE

Carroll County

Conway Public Library, 15 Greenwood Ave., Conway, SG100001317

Grafton County

Enfield Center Town Hall, 1044 NH 4A, Enfield, SG100001318

Hillsborough County

Milford Suspension Bridge, E. of eastern end of Bridge St., Milford, SG100001321

NEW JERSEY

Warren County

First Methodist Episcopal Church, 116 E. Washington Ave., Washington Borough, SG100001322

OHIO

Summit County

Copley Township Cemetery Receiving Vault, 3772 Copley Rd., Copley, SG100001333

SOUTH CAROLINA

Richland County

Champion and Pearson Funeral Home, 1325 Park St., Columbia, SG100001334

An additional documentation has been received for the following resource(s):

ILLINOIS

Peoria County

Peoria Warehouse Historic District, Roughly along Adams, May, Oak, Persimmon, State, Walnut & Washington Sts., Peoria, AD14000621

OHIO

Cuyahoga County

Garfield, President James A., Memorial (Additional Documentation), 12316 Euclid Ave. in Lakeview Cemetery, Cleveland, AD73001411

Nominations submitted by Federal Preservation Officers:

The State Historic Preservation Officer reviewed the following nominations and responded to the Federal Preservation Officer within 45 days of receipt of the nominations and supports listing the properties in the National Register of Historic Places.

NEW MEXICO

Rio Arriba County

Apodaca, Martin, Homestead, (Historical-Period Rural Landscape of Upper Largo Canyon, Rio Arriba County, New Mexico, 1829-1943 MPS), Address Restricted, Counselor vicinity, MP100001324

Dogie Canyon School, (Historical-Period Rural Landscape of Upper Largo Canyon, Rio Arriba County, New Mexico, 1829-1943 MPS), Address Restricted, Counselor vicinity, MP100001325

El Buen Pastor Cemetery, (Historical-Period Rural Landscape of Upper Largo Canyon, Rio Arriba County, New Mexico, 1829-1943 MPS), Address Restricted, Counselor vicinity, MP100001326

Martin, Nestor, Park, (Historical-Period Rural Landscape of Upper Largo Canyon, Rio Arriba County, New Mexico, 1829-1943 MPS), Address Restricted, Counselor vicinity, MP100001327

Martinez, Margarita, Homestead, (Historical-Period Rural Landscape of Upper Largo Canyon, Rio Arriba County, New Mexico, 1829-1943 MPS), Address Restricted, Counselor vicinity, MP100001328

Miera, Luciano, Store—Homestead, (Historical-Period Rural Landscape of Upper Largo Canyon, Rio Arriba County, New Mexico, 1829-1943 MPS), Address Restricted Counselor vicinity, MP100001329

Moss Trail, (Historical-Period Rural Landscape of Upper Largo Canyon, Rio Arriba County, New Mexico, 1829-1943 MPS), Address Restricted, Counselor vicinity, MP100001330

Vigil, Senon S., Homestead, (Historical-Period Rural Landscape of Upper Largo Canyon, Rio Arriba County, New Mexico, 1829-1943 MPS), Address Restricted, Counselor vicinity, MP100001331

UTAH

Grand County

Ballard—Sego Coal Mine Historic District, Address Restricted, Green River vicinity, SG100001335

Authority: 60.13 of 36 CFR part 60.

Dated: June 9, 2017.
J. Paul Loether,
Chief, National Register of Historic Places/National Historic Landmarks Program and Keeper of the National Register.

[FR Doc. 2017-13485 Filed 6-27-17; 8:45 am]

BILLING CODE 4312-52-P